DEPARTMENT OF COMMERCE

Foreign-Trade Zones Board

[Docket 20-2006]

Foreign-Trade Zone 37 - Orange County, New York, Application for Subzone, Schott Lithotec USA, Corp. (Photomask Blanks), Poughkeepsie, New York

An application has been submitted to the Foreign-Trade Zones Board (the Board) by the County of Orange, grantee of FTZ 37, requesting special-purpose subzone status for the manufacturing and warehousing facilities of Schott Lithotec USA, Corp (Schott), located in Poughkeepsie, New York. The application was submitted pursuant to the provisions of the Foreign-Trade Zones Act, as amended (19 U.S.C. 81a-81u), and the regulations of the Board (15 CFR part 400). It was formally filed on May 24, 2006.

The Schott facilities (80 employees) consist of two sites on 3.5 acres in Poughkeepsie, New York: Site 1 (3.3 acres) is located at 2323 South Road; and Site 2 (6,875 square feet) is located at 641 Sheafe Road. The facilities are used for the manufacturing and warehousing of photomask blanks. Components and materials sourced from abroad, representing some 95% of all parts consumed in manufacturing, include: organic surface active agents, sensitizing emulsions, chemical preparations for photographic uses, glass substrates, and sputtering targets (duty rates range from duty-free to 6.5%).

FTZ procedures would exempt Schott from customs duty payments on the foreign components used in export production. Some 34 percent of the plant's shipments are exported. On its domestic sales, Schott would be able to choose the duty rates during Customs entry procedures that apply to photomask blanks (3.7%) for the foreign inputs noted above. The request indicates that the savings from FTZ procedures would help improve the plant's international competitiveness.

In accordance with the Board's regulations, a member of the FTZ staff has been appointed examiner to investigate the application and report to the Board.

Public comment is invited from interested parties. Submissions (original and 3 copies) shall be addressed to the Board's Executive Secretary at the address below. The closing period for their receipt is August 4, 2006. Rebuttal comments in response to material submitted during the foregoing period may be submitted during the subsequent 15-day period to August 21, 2006.

A copy of the application and accompanying exhibits will be available for public inspection at each of the following locations:

U.S. Department of Commerce Export Assistance Center, 20 Exchange Plaza, 20th Floor New York, NY 10005.

Office of the Executive Secretary, Foreign-Trade Zones Board, U.S. Department of Commerce, Room 1115, 1401 Constitution Ave. NW., Washington, DC 20230.

Dated: May 24, 2006.
Dennis Puccinelli,
Executive Secretary.

[FR Doc. E6-8683 Filed 6-2-06; 8:45 am]

BILLING CODE 3510-DS-S